DEPARTMENT OF COMMERCE

National Oceanic and Atmospheric Administration

AGENCY: National Ocean Service, NOAA, Department of Commerce.

ACTION: Notice of open meeting.

SUMMARY: Notice is hereby given of the next meeting of the Marine Protected Areas Federal Advisory Committee (MPA FAC) in Corpus Christi, Texas.

DATES: The meeting will be held Monday, April 24, 2006, from 8:30 a.m. to 5 p.m., Tuesday, April 25, 2006, from 8 a.m. to 5 p.m., and Wednesday, April 26, 2006, from 8 a.m. to 5 p.m. These times and the agenda topics described below may be subject to change. Refer to the Web page listed below for the most up-to-date meeting agenda.

ADDRESSES: The meeting will be held at the Omni Marina Tower Hotel, 900 North Shoreline Boulevard, Corpus Christi, Texas 78401.

FOR FURTHER INFORMATION CONTACT: Lauren Wenzel, Designated Federal Officer, MPA FAC, National Marine Protected Areas Center, 1305 East West Highway, Silver Spring, Maryland, 20910. (Phone: 301-713-3100 x 136, Fax: 301-713-3110); e-mail: lauren.wenzel@noaa.gov; or visit the National PMA Center Web site at http://www.mpa.gov).

SUPPLEMENTARY INFORMATION: The MPA FAC, composed of external, knowledgeable representatives of stakeholder groups, was established by the Department of Commerce (DOC) to provide advice to the Secretaries of Commerce and the Interior on implementation of Section 4 of Executive Order 13158 on MPAs. The meeting will be open to public participation, with a one hour time period set aside from 4 p.m. to 5 p.m. on Monday, April 24, 2006, and one hour set aside from 8:10 a.m. to 9:10 a.m. on Wednesday, April 26, 2006, for the MPA FAC to receive verbal comments or questions from the public. In general, each individual or group making a verbal presentation will be limited to a total time of five (5) minutes. Copies of written statements should be submitted to the Designated Federal Official by April 18, 2005.

Matters to Be Considered: On Monday, April 24, 2006, the MPA FAC will elect a chair and vice chair, receive a response from DOC and the Department of the Interior (DOI) on their recommendations submitted in June 2005, and receive its new charge from DOC and DOI. The MPA FAC will also discuss and form the subcommittees needed to address the charge. On Tuesday, April 25, 2006, the MPA FAC will hear a panel presentation on MPAs and marine management issues in the Gulf of Mexico, and the subcommittees will meet. On Wednesday, April 26, 2006, the MPA FAC will hear a panel presentation MPAs and ecosystem approaches to management and the subcommittees will meet.The agenda is subject to change, and the latest version will be posted at http://www.mpa.gov.

Dated: March 17, 2006.
Eldon Hout,
Director, Office of Ocean and Coastal Resource Management.

[FR Doc. 06-2989 Filed 3-28-06; 8:45 am]

BILLING CODE 3510-08-M